OFFICE OF PERSONNEL MANAGEMENT

5 CFR Part 532

RIN 3206-AK26

Prevailing Rate Systems; Redefinition of the San Francisco, CA; Nonappropriated Fund Wage Area

AGENCY: Office of Personnel Management.

ACTION: Final rule.

SUMMARY: The Office of Personnel Management is issuing a final rule to abolish the San Francisco, CA, nonappropriated fund (NAF) Federal Wage System (FWS) wage area and redefine San Francisco County as an area of application to the Santa Clara, CA, NAF FWS wage area. This change is necessary because the closure of Fort Mason Officers' Club left the San Francisco wage area without a host activity to conduct local NAF wage surveys.

DATES: This rule is effective on June 17, 2005.

FOR FURTHER INFORMATION CONTACT: Madeline Gonzalez, (202) 606-2838; email pay-performance-policy@opm.gov; or FAX: (202) 606-4264.

SUPPLEMENTARY INFORMATION: On November 14, 2003, the Office of Personnel Management (OPM) published an interim rule (68 FR 64493) that abolished the San Francisco, CA, nonappropriated fund (NAF) Federal Wage System (FWS) wage area and redefined San Francisco County as an area of application to the Santa Clara, CA, NAF FWS wage area. The interim rule had a 30-day comment period, during which OPM received no comments. The change was necessary because the closure of Fort Mason Officers' Club left the San Francisco wage area without a host activity to conduct local NAF wage surveys. Because of downsizing caused by closures of Federal installations in the San Francisco wage area, no other NAF employer in the wage area has sufficient local personnel or financial resources to conduct local NAF wage surveys.

NAF FWS employees in San Francisco County were placed on the Santa Clara wage schedule on November 30, 2003—the date the next wage schedule for the San Francisco wage area would have become effective if the wage area had continued as a separate wage area. The Federal Prevailing Rate Advisory Committee, the national labor-management committee that advises OPM on matters affecting the pay of FWS employees, reviewed and recommended this wage area redefinition by majority vote.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

U.S. Office of Personnel Management.
Dan G. Blair,
Acting Director.

Accordingly, under the authority of 5 U.S.C. 5343, the interim rule (68 FR 64493) amending 5 CFR part 532 published on November 14, 2003, is adopted as final with no changes.

[FR Doc. 05-9896 Filed 5-17-05; 8:45 am]

BILLING CODE 6325-39-P